DEPARTMENT OF TRANSPORTATION

Federal Highway Administration

[Docket No. FHWA-2024-0077]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by February 3, 2025.

ADDRESSES: You may submit comments identified by DOT Docket ID Number 0077 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Rebecca Lupes, (202) 366-7808, Office of Natural Environment, Federal Highway Administration, Department of Transportation, 1200 New Jersey Avenue SE, Washington, DC 20590. Office hours are from 7 a.m. to 4 p.m., Monday through Friday, except Federal holidays.

SUPPLEMENTARY INFORMATION:

Title: Promoting Resilient Operations for Transformative, Efficient, and Cost-Saving Transportation (PROTECT) Discretionary Grant Program and Voluntary Resilience Improvement Plans.

Background: The Bipartisan Infrastructure Law (BIL) established the Promoting Resilient Operations for Transformative, Efficient, and Cost-Saving Transportation (PROTECT) Program to help make surface transportation more resilient to natural hazards, including climate change, sea level rise, flooding, extreme weather events, and other natural disasters. The PROTECT Discretionary Grant Program provides competitive grants to conduct resilience planning, to make surface transportation assets more resilient to current and future weather events and natural disasters, to strengthen and protect evacuation routes, and to protect, strengthen, or relocate coastal infrastructure that is at long-term risk to sea level rise. The program includes four separate grant categories: Planning, Resilience Improvement, Community Resilience and Evacuation Routes, and At-Risk Coastal Infrastructure.

Eligible applicants under the PROTECT Discretionary Grant Program include State Departments of Transportation (DOTs), Metropolitan Planning Organizations (MPOs), local governments, special purpose districts or public authorities with a transportation function, and Indian Tribes. Federal land management agencies are eligible entities if the agency applies jointly with a State or group of States. U.S. Territories are eligible under the At-Risk Coastal Infrastructure category.

Summary of Information Collection Activities

For this competitive grant program, the FHWA has issued multiple Notices of Funding Opportunity (NOFO) that describe the requirements of the PROTECT Discretionary Grant Program, including the criteria that will be used to evaluate applications. The NOFOs provide a description of the application requirements. Eligible applicants request PROTECT funds in the form of an electronic grant application. Additional information submissions are required for applicants who are selected for a grant (i.e., the grantees) during the grant agreement, grant implementation and evaluation phases.

Additionally, State DOTs and MPOs may develop Resilience Improvement Plans under the PROTECT Program. A Resilience Improvement Plan is a voluntary, risk-based assessment of vulnerable transportation assets in immediate and long-term transportation planning that demonstrates a systemic approach to surface transportation system resilience (23 U.S.C. 176(e)). A Resilience Improvement Plan can reduce Non-Federal match by up to 10% for both PROTECT Formula and Discretionary Grant projects (23 U.S.C. 176(e)(1)(B)).

FHWA's Office of Natural Environment will continue to support ad-hoc resilience & planning technical assistance for State DOTs and MPOs on a variety of topics during the PRA covered time frame. These activities may include voluntary virtual or in-person peer exchanges, in addition to general ad-hoc technical assistance when requested by DOTs and MPOs. Participants choosing to enroll in a peer exchange are asked to submit a pre-event questionnaire. There may be additional collection of information in support of FHWA's ad-hoc technical assistance activities.

Lastly, FHWA is required by 23 U.S.C. 176(f)(1) to establish effectiveness metrics and evaluation procedures for the PROTECT Discretionary Grant Program and select a representative sample of projects to evaluate based on the metrics and procedures. FHWA will select a representative sample of approximately 50 funded projects to evaluate their impact and effectiveness to fulfil this statutory requirement and support a PROTECT Discretionary Program Evaluation. Projects selected as part of this representative sample will have additional reporting requirements.

Burden estimates for each of these PROTECT program components are described below:

I. Grant Application, Agreement, Implementation and Evaluation Phase Activities

Grant Application Phase

Eligible entities that may apply for PROTECT Discretionary grants vary depending on the type of the competitive grant. Planning Grants, Resilience Improvement Grants, and Community Resilience and Evacuation Route Grants have the same statutory rules for eligible applicants. The At-Risk Coastal Infrastructure Grant category has different statutory rules for eligible applicants. During the application process applicants will provide a project narrative and budget information, Standard Form 424, and Disclosure of Lobbying Activities form (SF-LLL).

—Respondents: PROTECT Grant applicants.

—Frequency: One time per grant application.

—Estimated Average Burden per Response: 157 hours for a Planning Grant application, 208 hours to for a Resilience Improvement Grant application, 208 hours for a Community Resilience and Evacuation Routes Grant application, and 108 hours for an At-Risk Coastal Infrastructure Grant application.

—Estimated Total Annual Burden Hours: It is expected that 945 respondents will complete approximately one application during the 3-year PRA period for an estimated total of 177,160 annual burden hours.

Grant Agreement Phase

All grant recipients must work with FHWA to develop and execute a grant agreement detailing terms and conditions for use of funds.

—Respondents: All Grant Recipients.

—Frequency: One time, unless a grant agreement amendment is necessary.

—Estimated burden: Approximately 30 hours per respondent. Some capital projects may need to process amendments to the grant agreement which is expected to take an additional 10-15 hours per amendment.

Grant Implementation Phase

During the grant implementation phase, the grantee completes semi-annual progress and recertification reports to ensure the project budget and schedule are maintained to the maximum extent possible, that compliance with Federal regulations are met, and the project is completed to the highest degree of quality. Post-award reporting responsibilities include Semi-Annual Performance Progress Reports (FHWA-PPR), and a financial status report called the SF-425 (also known as the Federal Financial Report or SF-FFR). Semi-Annual Project Progress Reports are submitted as an attachment to the SF-425 form. Additionally, grant recipients requesting advance or reimbursement need to provide an SF 270 and an SF 271 form, respectively. After project close and no later than 120 days after the end of the period of performance, grant recipients shall submit a Final Project Progress Report and Recertification, including a final Federal Financial Report (SF-425).

—Respondents: All Grant recipients.

—Frequency: Semi-Annually During the period of performance; one Final Progress Report after project close.

—Estimated Burden Hours: Grantees provide a Semi-Annual Project Progress Report (FHWA-PPR) as an attachment to their Federal Financial Report (SF 425). Approximately 1 hours.

—Approximately 1 additional hours each time an SF 270 and an SF 271 are used for an advance or reimbursement.

Grant Evaluation Phase

During the evaluation phase, reporting is necessary to comply with 2 CFR 200.301, to assess program effectiveness for the Federal Government, and to provide information regarding how the project is achieving the outcomes that grantees have targeted. Grantees collect both baseline and project performance measure data unique to their project as outlined in their grant agreement, and report on their chosen performance measure(s) via an Annual Performance Report (see Grant Agreement Schedule G—Performance Measurement). Annual Performance Reports are submitted electronically to FHWA for three years post project completion for all project types, followed by a final performance report.

—Respondents: All Grant Recipients.

—Frequency: Annually during a 3-year period of performance.

—Estimated Burden: Approximately 2 hours per year.

Total burden hours for grant agreement, implementation, and evaluation phases (all recipients): Over the three-year PRA period, FHWA estimates that it will take approximately 40 hours to complete all the post-award activities outlined above for a Planning Grant, 63 hours to for a Resilience Improvement Grant, 63 hours for a Community Resilience and Evacuation Route Grant, and 63 hours for an At-Risk Coastal Infrastructure Grant. FHWA estimates that 255 award recipients will perform these reporting activities during the 3-year PRA period, which will result in 16,455 total burden hours.

II. Resilience Improvement Plans and Related Technical Assistance

Resilience Improvement Plans, Resilience Planning Peer Exchanges, and FHWA on-demand planning and resilience technical assistance are all voluntary activities completed by State DOTs and MPOs that occur on an ad-hoc frequency. Resilience Improvement Plans are estimated to require 250 hours to complete. Resilience Planning Peer Exchange pre-event questionnaires require approximately 1 hour. Information collections to support related FHWA resilience technical assistance activities will vary widely. Generally, these activities may include electronic or in-person submission of project plans and designs, draft technical materials, and PowerPoint materials from a State DOT or MPO to FHWA and/or a peer group. FHWA may conduct informal interviews, focus groups or additional short electronic questionnaires to support these technical assistance activities and gauge interest in future trainings and assistance offerings.

—Respondents: State Departments of Transportation and Metropolitan Planning Organizations.

—Frequency: One time.

—Estimated Total Annual Burden Hours: It is estimated that 25 State DOTs and 25 MPOs will complete Resilience Improvement Plans during the 3-year PRA period for an estimated total of 12,500 annual burden hours. FHWA estimates that approximately 350 participants will complete a peer exchange pre-event questionnaire for an FHWA peer exchange event, resulting in an estimated total of 350 burden hours.

III. PROTECT Metrics and Program Evaluation Activities

A smaller number of grantees selected for further monitoring to support an FHWA Evidence Act Program Evaluation and fulfill FHWA's obligations under 23 U.S.C. 176(f)(1)(B) will need to coordinate with FHWA to provide baseline data in the pre-construction phase. These grantees will also assist FHWA in gathering annual project performance data for 3-5 years post construction. Participants may be asked to attend interviews and focus groups to verify desktop, primary source, or field measurement data collected by FHWA. A small amount of additional data collection may be required of all ~200 PROTECT Grantees and/or their supporting FHWA Division (State) Offices to gauge interest and capacity to participate in the program evaluation and identify the range of typical outcomes and challenges for grantees. It is anticipated that any information collection from this wider group would be done via an electronic form submittal and be a one-time collection of approximately 2 hours.

—Respondents: A representative sample of approximately 50 selected grantees are expected to participate in the PROTECT Discretionary Resilience Metrics and Program Evaluation data collection.

—Frequency: One-time baseline data collection followed by annual data collection/coordination with FHWA during study period.

—Estimated Average Burden per Response: FHWA estimates 60 hours of burden annually per selected project for data collection and coordination with FHWA. An additional 15 hours of burden in the first year for notification, initial coordination with FHWA and baseline data collection.

—Estimated Total Annual Burden Hours: It is expected that 50 grantees will be selected for this evaluation for an estimated total of 9,850 annual burden hours during the PRA period.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: November 27, 2024.
Jazmyne Lewis,
Information Collection Officer.

[FR Doc. 2024-28339 Filed 12-2-24; 8:45 am]

BILLING CODE 4910-22-P